DEPARTMENT OF TRANSPORTATION

Federal Motor Carrier Safety Administration

[Docket No. FMCSA-2006-23781]

Agency Information Collection Activities; Request for Comment; Approval of a New Information Collection: Letter of Confirmation and Carrier Contact Information Sheets

AGENCY: Federal Motor Carrier Safety Administration (FMCSA), DOT.

ACTION: Notice and request for comments.

SUMMARY: FMCSA invites public comment on its plan to request the Office of Management and Budget's (OMB) approval to collect information on new forms entitled “Carrier Contact Information Sheets.” The information will be collected from United States and Canada-based motor carriers through the use forms, and used by FMCSA Safety Auditors and Safety Investigators to prepare in advance for Compliance Reviews (CRs) and New Entrant Program Safety Audits (NEPSAs); Pre-authority Safety Audits (PASAs) and CRs of certain Mexico-domiciled motor carriers; and NEPSAs and CRs of Non-North American motor carriers. FMCSA conducts CRs to determine motor carrier compliance with the Federal Motor Carrier Safety Regulations (FMCSRs) and other regulations overseen by FMCSA. In accordance with section 350 of the 2002 DOT Appropriations Act and the Agency's regulations, all Mexico-domiciled long-haul carriers must successfully complete a PASA before receiving authority to operate in the United States and must receive a CR within their first 18 months of operations in the United States. All other motor carriers receive CRs to determine their safety fitness.

FMCSA conducts NEPSAs in accordance with section 210 of the Motor Carrier Safety Improvement Act of 1999, which requires safety reviews of all new entrants during their first 18 months of operations.

The information collected from motor carriers will be used to assist safety investigators to become familiar with the motor carrier's operation prior to visiting the carrier's place of business. The information collected will include, but is not limited to, company information and contact persons, business type, insurance, type of cargo transported, vehicle and driver information and controlled substance testing information. Additional information will be collected from carriers who transport hazardous materials, household goods, and passengers or are domiciled in Mexico. This notice is required by the Paperwork Reduction Act of 1995.

DATES: Comments must be submitted on or before June 12, 2006.

ADDRESSES: All comments should reference Docket No. FMCSA-2006-23781. You may mail or hand deliver comments to the U.S. Department of Transportation, Dockets Management Facility, Room PL-401, 400 Seventh Street, SW., Washington, DC 20590; telefax comments to (202) 493-2251; or submit electronically at http://dms.dot.gov. You may examine and copy all comments received at the above address between 9 a.m. and 5 p.m., Monday through Friday, except Federal holidays. If you desire your comment to be acknowledged, you must include a self-addressed stamped envelope or postcard or, if you submit your comments electronically, you may print the acknowledgment.

FOR FURTHER INFORMATION CONTACT: Mr. Arturo H. Ramirez, Division Chief, (202) 366-3181, Enforcement and Compliance Division, Federal Motor Carrier Safety Administration, 400 7th Street SW., Suite 8214, Washington, DC 20590. Office hours are from 7:00 a.m. to 4:30 p.m., e.t., Monday through Friday, except Federal Holidays.

SUPPLEMENTARY INFORMATION: Title: Carrier Contact Information Sheets.

OMB Control No: 2126-XXXX.

Background:

In 1999, the Motor Carrier Safety Improvement Act of 1999 (MCSIA) [Public Law 106-159,113 Stat. 1748 (December 9, 1999)] strengthened the motor carrier safety program by mandating more vehicle and driver inspections, and carrier compliance reviews. MCSIA also required safety reviews of all new entrants during the first 18 months of operations. Section 350 of the DOT Appropriations Act for Fiscal Year 2002 [Public Law 107-87, 115 Stat. 864 (December 18, 2001)] further strengthened the safety program for motor carriers by requiring safety audits of long-haul Mexico-domiciled carriers before they receive operating authority in the United States.

FMCSA conducts compliance reviews to ensure that motor carriers comply with the FMCSRs. To facilitate the timely completion of the compliance reviews in the future, FMCSA safety investigators will use the following two forms to collect information from motor carriers prior to conducting compliance reviews.

A “Letter of Confirmation,” will be used by the safety investigator to confirm an appointment with a carrier once a compliance review has been scheduled. The letter further informs the carrier the investigator will need access to all carrier records including, but not limited to, the following:

• A list of drivers used in the past 365 days, including date of hire, date of termination, Commercial Driver's License (CDL) State and license number, and date of birth;

• Driver qualification files and controlled substance testing records results and summaries for the past 365 days;

• Driver payroll records;

• Driver records of duty status (logs, time records, etc.) for the past 6 months;

• Driver trip reports, expense records, scale tickets, fuel receipts, toll receipts, bills of lading or any other pickup or delivery document for the past 6 months;

• Motor vehicle accident reports and accident register for the past 12 months;

• A list of motor vehicle equipment (company unit number, license number, State, year, make and gross vehicle weight rating (GVWR));

• Lease agreements, if applicable;

• Vehicle maintenance records for all vehicles owned or leased;

• Driver vehicle inspection reports for the last 90 days;

• All roadside inspections for the past 365 days;

• Company gross revenue for the last calendar or fiscal year, as applicable;

• Total fleet mileage for the last year;

• A copy of the motor carrier's MCS-90 or MCS-90B endorsement for its current policy; and insurance claim information for the past 365 days (Loss Run Report).

• Carriers of household goods must also provide all documents related to the movement of household goods, including estimates, orders for service, bills of lading, inventories, invoices and weight tickets.

• Carriers of hazardous materials must also provide, if applicable: a copy of the company's security plan; a list of any hazardous materials (HM or hazmat) incident(s) that may have occurred in the past 12 months (including spills, injuries or any type of release); HM shipping papers for the past 12 months; records related to the training of all hazmat employees and all documentation regarding the testing of any applicable specification cargo tanks.

Form MCSA-5540, “Carrier Information,” will be used for the collection of information from all motor carriers subject to the Federal Motor Carrier Safety Regulations. The information will be used by the safety investigator to assist him/her in conducting a compliance review of the motor carrier's operation. The information to be collected from the carrier includes, but is not limited to:

• The legal name and contact information (including telephone and facsimile numbers and e-mail addresses);

• Information regarding the motor carrier's type of business—for example, whether the business is a sole proprietorship, partnership, LLC (Limited Liability Company) or corporation;

• The motor carrier's gross revenue for the last complete fiscal year;

• The fleet mileage for the preceding 12 months;

• The motor carrier's employee identification number, social security number or Registro Federal de Causantes number (Mexican Federal Tax Identification number) (RFC) (if a Mexico-domiciled carrier);

• The motor carrier's insurance information, including name of insurance company, agent or contact information, insurance company's telephone number, coverage or policy number and whether the carrier has an additional umbrella policy. The form also requests that for-hire carriers and carriers of hazardous materials have available for the safety investigator's review a copy of Form MCS-90 or MCS-90B, as appropriate;

• Any reports of accidents in the proceeding 365 days;

• A description of the type of cargo transported and whether the carrier is a for-hire property carrier, a for-hire passenger carrier, private property carrier or private passenger carrier;

• The number of vehicles in the motor carrier's fleet including, if applicable, the number of straight trucks, truck tractors, trailers, hazardous material cargo tank trucks, hazardous material cargo tank trailers, school buses, motor coaches, and number of 9-15 passenger vehicles;

• The number of vehicles in its fleet that are owned, leased or trip leased;

• The number of interstate or intrastate drivers that operate commercial motor vehicles within a 100 air-mile radius or beyond a 100 air-mile radius;

• The number of non-CDL drivers operating commercial motor vehicles within a 150 air-mile radius;

• If applicable, the total number of trip leased and CDL drivers it employs per month;

• A description of the motor carrier's controlled substances and alcohol testing program for CDL drivers, including the name of any consortium in which it participates and relevant contact persons, addresses, and telephone numbers;

• A list of all drivers enrolled in the company's random alcohol and controlled substance testing program and a semi-annual aggregate statistical summary of the motor carrier's alcohol and controlled substance testing results;

• The name of the person(s) who hires drivers, oversees driver qualifications, monitors drivers hours-of-service, maintains trip related expense receipts, completes payroll, dispatches, oversees controlled substances testing, is responsible for the motor carrier's vehicle maintenance program, is responsible for maintenance records and is responsible for the motor carrier's accident records.

Additional forms set forth below will apply to carriers who transport household goods, hazardous materials and passengers, or are domiciled in Mexico. The forms are listed as Appendices, Forms A-E, respectively.

Appendix A (Household Goods Carriers)

Requests that carriers who transport household goods provide:

• General information including, but not limited to, the location of the motor carrier's sales office(s), the location where it maintains equipment or warehousing facilities and the name and phone number of these locations;

• If applicable, the name of prime agents that are not company owned, addresses and telephone number(s) and copies of any written agreements the carrier may have with them;

• If the carrier uses brokers, copies of any written agreements with the brokers;

• If applicable, information pertaining to the use of public or self-storage facilities the carrier may use to hold shipments that are in transit and the name, address and telephone number of each facility used in the past 12 months;

• Information pertaining to the motor carrier's arbitration program, the provider of the program (company name), contact person, date participation in the program began, address of provider, date the program was put into effect, estimating process and its complaint and inquiry processes;

• Information regarding tariffs, including name and identifying number of the tariff, the effective date of the tariff, whether the carrier participates in a tariff published by another party, if so, the date participation began and a copy of the motor carrier's tariff and all revisions in effect during the past 12 months;

• Information regarding production and distribution to their customers of the publication entitled “Your Rights and Responsibilities When You Move” prior to signing an order for service; and

Appendix B (Hazardous Materials Carriers)

Requests that a carrier of hazardous materials provide:

• A motor carrier's hazardous materials registration number, the class/division of the hazardous material the carrier transports and whether it transports placardable amounts;

• If applicable, the specification(s) of the cargo tanks the carrier uses to transport the hazardous material, the name of the facility it uses to inspect the cargo tanks and registration number (CT) number;

• Information pertaining to hazardous materials requiring a Hazardous Material Safety Permit and the permit number;

• Information about the motor carrier's security plan, whether the plan includes a written risk assessment and the name of the person in the company responsible for security;

• The name of the person(s) providing employees hazardous material training;

• Whether the motor carrier's employees have received general awareness training, security awareness training, function specific training or in-depth security training;

• A list of all employees that handle hazardous materials, including, but not limited to drivers, loaders, handlers, persons that prepare shipping papers; and

• The name of anyone responsible for hazardous materials safety.

Appendix C (Passenger Carriers)

Requires passenger carriers to identify whether they operate vehicles designed to transport: (1) Eight (8) passengers or less (including driver), (2) nine (9) to 15 passengers (including the driver[ar3]), or (3) 16 or more passengers (including the driver). The passenger carrier is also asked whether it operates in interstate commerce.

Appendix D (Mexico-domiciled Carriers)

Requests a Mexico-domiciled carrier to provide:

• Information regarding the transportation of interstate cargo during the preceding 12 months and the number of miles traveled in the United States only;

• The number of vehicles the carrier operates in commerce in the United States that have a Gross Vehicle Weight or Gross Combination Weight rating under 10,000 pounds, in excess of 10,000 pounds or in excess of 26,000 pounds;

• Whether the vehicles are housed in Mexico or the United States and the address of the location they are housed;

• Copies of its MX authority and a MCS-90 properly endorsed with required or adequate levels of insurance;

• The number of drivers operating in the United States-Mexico border commercial zone and beyond the commercial zone;

• Information regarding its process agent(s), including, but not limited to, the contact person, address of process agent, telephone, facsimile or cellular phone numbers and e-mail addresses, if applicable;

• For carriers with subsidiaries based in the United States, information regarding these subsidiaries, including, but not limited to, company name, contact person, address of company, telephone, facsimile and cellular numbers; and e-mail addresses.

Appendix E (Non-North American Carriers)

Requests a Non-North American carrier to[ar4] provide:

• Information concerning the transportation of interstate cargo during the preceding 12 months and the number of miles traveled in the United States only;

• The number of vehicles the carrier operates in commerce in the United States that have a Gross Vehicle Weight or Gross Combination Weight rating under 10,000 pounds, in excess of 10,000 pounds or in excess of 26,000 pounds;

• Whether the vehicles are housed in Mexico or the United States and the address of the location they are housed;

• Copies of all operating authorities (MX or other) and a MCS-90 properly endorsed with required or adequate levels of insurance;

• Information regarding its process agent(s), including, but not limited to, the contact person, address of process agent, telephone, facsimile or cellular numbers and e-mail address in applicable; and

For carriers with subsidiaries based in the United States, information regarding these subsidiaries, including, but not limited to, the contact person, address of process agent, telephone, facsimile or cellular numbers and e-mail address.

Respondents: United States, Canada-based and Mexico-domiciled motor carriers and Non-North American motor carriers.

Frequency: On occasion.

Estimated Average Burden per Response: The burden for the Letter of Confirmation is included in the burden for the Form MCSA-5540, “Carrier Information”. The estimated time to read the Letter of Confirmation and complete the Form MCSA-5540 is 40 minutes, and Appendices A—E: is 20 minutes.

Estimated Total Annual Burden Hours: 23,384 hours [23,384 respondents x 40 minutes/60 minutes to complete the Letter of Confirmation and Form MCSA-5540 + 23,384 respondents x 20 minutes to/60 minutes complete Appendices A-E = 23,384 hours].

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The agency will summarize and/or include your comments in the request for OMB's clearance of this information collection.

Issued on: April 6, 2006.
Warren E. Hoemann,
Deputy Administrator.

[FR Doc. E6-5434 Filed 4-11-06; 8:45 am]

BILLING CODE 4910-EX-P